DEPARTMENT OF HEALTH AND HUMAN SERVICES

Administration for Children and Families

Proposed Information Collection Activity: Unaccompanied Alien Children Sponsor Application Packet (Office of Management and Budget #0970-0278)

AGENCY: Office of Refugee Resettlement, Administration for Children and Families, U.S. Department of Health and Human Services.

ACTION: Request for public comments.

SUMMARY: The Office of Refugee Resettlement (ORR), Administration for Children and Families (ACF), U.S. Department of Health and Human Services, is inviting public comments on revisions to an approved information collection. The request consists of several forms that allow the Unaccompanied Alien Children Bureau to assess the suitability of potential sponsors for unaccompanied alien children. Note this information collect was previously titled Family Reunification Application for Sponsors of Unaccompanied Alien Children and has been retitled at the direction of ORR leadership.

DATES: Comments due June 24, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Proposed revisions for each form are listed below and include terminology updates requested by the current Administration.

Additionally, ORR proposes changing the title of this information collection from “Family Reunification Packet for Sponsors of Unaccompanied Children” to “Unaccompanied Alien Children Sponsor Application Packet” to better reflect the purpose of the information collection.

Finally, the current Administration has requested more comprehensive information on sponsor income to support suitability assessments as part of the sponsorship application. In addition to the information already collected in form SAP-3, ORR is planning to prepare an Affidavit of Support that will be completed by the sponsor and provide certification that the sponsor has the financial means to provide for the child's physical and mental well-being (per 45 CFR 410.1202(c)). This new instrument will be incorporated into the information collection in time for the second Federal Register notice, to ensure proper notification to the public and solicitation of comments.

• All Forms: Replace “unaccompanied child” or “UC” with “unaccompanied alien child” or “UAC”.

• Authorization for Release of Information (Form SAP-2): This instrument collects respondents' written consent to background investigations with Federal, State, or local law enforcement and/or child welfare agencies, allows ORR to determine whether an unaccompanied alien child will be safe in the custody of a potential sponsor, adult household members, and alternate adult caregivers. The expected respondents of this instrument are, under certain circumstances, potential sponsors, adult household members, and alternate adult caregivers.

○ Remove “in black ink” from the instruction at the top of the form to reflect that ORR accepts both wet and electronic signatures for this form.

○ Make the following revisions to the third declaration:

Reword “I Understand that my biometric and biographical information, including my fingerprints . . .” to “I Understand that my biometric and biographical information, including my fingerprints and my photograph . . .”

Remove the last sentence and related footnote that reference restrictions from the Consolidated Appropriations Act of 2023.

○ Revise the burden estimate to account for a decrease in the number of sponsors applying to sponsor a child, an increase in the number of individuals required to undergo fingerprint checks, and an increase in the number of care provider facilities. The annual number of respondents increased from 81,532 to 183,588; the annual number of record keepers increased from 235 to 300; and the annual number of responses per record keeper increased from 347 to 612.

• Sponsor Application (Form SAP-3): This form collects information related to the potential sponsor's ability to provide for the unaccompanied alien child's mental and physical wellbeing. ORR uses the information collected to determine the suitability of a potential sponsor as a custodian of an unaccompanied alien child. The expected respondents of this instrument are potential sponsors.

○ Rename form “Sponsor Application” from “Family Reunification Application”.

○ Revise the instructions for proof of identity in the Supporting Documents section as follows:

Clarify that original versions are accepted.

Clarify that expired documents will no longer be accepted.

Remove several options under List B that will no longer be accepted as proof of identity.

○ Revise the burden estimate to account for a decrease in the number of sponsors applying to sponsor a child and an increase in the number care provider facilities. The annual number of respondents decreased from 122,950 to 76,569; the annual number of record keepers increased from 235 to 300; and the annual number of responses per record keeper decreased from 523 to 255.

• Fingerprinting Instructions (Form SAP-7): This instrument informs, as appropriate, potential sponsors, adult household members, and adult caregivers of the steps they must take to be fingerprinted. Fingerprints are collected electronically at grantee or contractor-operated digital fingerprinting sites or submitted via mail using FBI fingerprint cards (form FD-258, OMB #1110-0046). The expected respondents of this instrument are, under certain circumstances, potential sponsors, adult household members, and adult caregivers.

○ Revise the burden estimate to account for a decrease in the number of sponsors applying to sponsor a child, an increase in the number of individuals required to undergo fingerprint checks, and an increase in the number care provider facilities. The annual number of respondents increased from 81,532 to 183,588; the annual number of record keepers increased from 235 to 300; and the annual number of responses per record keeper increased from 347 to 612.

• Letter of Designation for Care of a Child (Form SAP-9): This instrument is filed by an unaccompanied alien child's parent(s) or legal guardian(s) to specify a potential sponsor to whom they wish to grant caregiving authority for their child. The form is optional (not required for release) but helps non-parent sponsors access community resources or answer questions from government authorities about the nature of their relationship with an unaccompanied alien child in their care.

○ Revise the burden estimate to account for a decrease in the number of sponsors applying to sponsor a child and an increase in the number care provider facilities. The annual number of respondents decreased from 41,181 to 19,202; the annual number of record keepers increased from 235 to 300; and the annual number of responses per record keeper decreased from 175 to 64.

Respondents: Potential sponsors of unaccompanied alien children, their adult household members, and alternate adult caregivers

Annual Burden Estimates:

Respondents
Instrument title | Annual total number of respondents | Annual total number of responses per respondent | Average burden hours per response | Annual total burden hours
Authorization for Release of Information (Form SAP-2) | 183,588 | 1 | 0.50 | 91,794
Family Reunification Application (Form SAP-3) | 76,569 | 1 | 1.00 | 76,569
Fingerprinting Instructions (Form SAP-7) | 183,588 | 1 | 1.25 | 229,485
Letter of Designation for Care of Minor (Form SAP-9) | 19,202 | 1 | 0.75 | 14,401
Estimated Annual Burden Hours Total |  |  |  | 412,249

Record Keepers
Instrument title | Annual total number of record keepers | Annual total number of responses per record keeper | Average burden hours per response | Annual total burden hours
Authorization for Release of Information (Form SAP-2) | 300 | 612 | 0.25 | 45,900
Family Reunification Application (Form SAP-3) | 300 | 255 | 0.25 | 19,125
Fingerprinting Instructions (Form SAP-7) | 300 | 612 | 1.00 | 183,600
Letter of Designation for Care of Minor (Form SAP-9) | 300 | 64 | 0.25 | 4,800
Estimated Annual Burden Hours Total |  |  |  | 253,425

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; 45 CFR 410.1202 and 410.1302(c).

Mary C. Jones,
ACF/OPRE Certifying Officer.

[FR Doc. 2025-07075 Filed 4-24-25; 8:45 am]

BILLING CODE 4184-45-P